FEDERAL COMMUNICATIONS COMMISSION

Notice of Public Information Collection(s) Being Reviewed by the Federal Communications Commission

November 17, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 26, 2003. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0856.

Title: Universal Service—Schools and Libraries Universal Service Program Reimbursement Forms.

Form Nos.: FCC Forms 472, 473, and 474.

Type of Review: Revision of a currently approved collection.

Respondents: Business or other for-profit and not-for-profit institutions.

Number of Respondents: 31,800 respondents; 39,300 responses.

Estimated Time Per Response: 1.5 hours.

Frequency of Response: On occasion, annual and quarterly reporting requirements and third party disclosure requirement.

Total Annual Burden: 58,950 hours.

Total Annual Cost: N/A.

Needs and Uses: In an effort to administer the requirements and obligations of the Universal Service program, FCC Forms 472, 473 and 474 and their instructions have been modified to make editorial changes, date adjustments and clarification statements. These forms instructions have also been modified to include invoice deadlines and extension request sections for the filing requirements.

OMB Control No.: 3060-XXXX.

Title: Section 1.929(c)(1), Composite Interference Contour (CIC).

Form No.: N/A.

Type of Review: New collection.

Respondents: Business or other for-profit, not-for-profit institutions, and state, local and tribal government.

Number of Respondents: 50.

Estimated Time Per Response: 2 hours.

Frequency of Response: On occasion reporting requirement and recordkeeping requirement.

Total Annual Burden: 100 hours.

Total Annual Cost: N/A.

Needs and Uses: Under Section 1.929(c)(1) of the Commission's rules, any increase in the composite interference contour (CIC) of a site-based licensee in the Paging and Radiotelephone Service, Rural Radiotelephone Service, or 800 MHz Specialized Mobile Radio Service is a major modification of license that requires prior Commission approval. However, the Commission released a Notice of Proposed Rulemaking (NPRM) in WT Docket No. 03-103 (68 FR 44003), proposing to amend this rule section to specify that expansion of a CIC of a site-based licensee in the Paging and Radiotelephone Service, as well as the Rural Radiotelephone Service and 800 MHz Specialized Mobile Radio Service, over water on a secondary, non-interference basis should be classified as a minor (rather than major) modification of a license. Such reclassification would eliminate the filing requirements associated with these license modifications, but require site-based licensees to provide the geographic area licensee (on the same frequency) with the technical and engineering information necessary to evaluate the site-based licensee's operations over water.

OMB Control No.: 3060-0465.

Title: Section 74.985, Signal Booster Stations.

Form No.: N/A.

Type of Review: Extension of a currently approved collection.

Respondents: Business or other for-profit and not-for-profit institutions.

Number of Respondents: 6,300.

Estimated Time Per Response: .083—8.25 hours.

Frequency of Response: On occasion reporting requirement, recordkeeping requirement, and third party disclosure requirement.

Total Annual Burden: 919 hours.

Total Annual Cost: $2,252,500.

Needs and Uses: Section 74.985 requires signal booster stations to: (1) Submit engineering data or showings in specified formats to the FCC's duplicating contractor; (2) to serve a copy of the application and accompanying engineering materials on affected co-channel or adjacent channel parties; and (3) retain a copy of the application at the transmitter site. The data are used to ensure that MDS and ITFS applicants and licensees have considered the potential harmful interference from their facilities. The Commission is submitting this to the OMB for extension (no change) to obtain the full three year clearance.

Federal Communications Commission.
Marlene H. Dortch,
Secretary.

[FR Doc. 03-29349 Filed 11-24-03; 8:45 am]

BILLING CODE 6712-01-P